DEPARTMENT OF HOUSING AND URBAN DEVELOPMENT

[Docket No. FR-7092-N-04]

Privacy Act of 1974; System of Records

AGENCY: Office of Public and Indian Housing, HUD.

ACTION: Notice of a rescindment of a system of records.

SUMMARY: Pursuant to the provisions of the Privacy Act of 1974, as amended, the Department of the Housing and Urban Development (HUD), Office of Public and Indian Housing, Office of Public Housing and Voucher Programs, is issuing a public notice of its intent to rescind the Tracking-at-a-Glance (TAAG) case management system because this system was a one-time-use system designed to contain information for a specific population (FEMA eligible referrals), a specific use, and specific amount of time (Disaster Housing Assistance Program (DHAP) eligible families who worked towards self-sufficiency) which ended in 2011.

DATES: Comments will be accepted on or before February 8, 2024. This proposed action will be effective immediately upon publication.

ADDRESSES: You may submit comments, identified by one of the following methods:

Federal e-Rulemaking Portal: https://www.regulations.gov. Follow the instructions provided on that site to submit comments electronically.

Fax: 202-619-8365.

Email: privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to https://www.regulations.gov including any personal information provided.

Docket: For access to the docket to read background documents or comments received go to https://www.regulations.gov.

FOR FURTHER INFORMATION CONTACT: LaDonne White, Chief Privacy Officer, 451 Seventh Street SW, Room 10139; Washington, DC 20410; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Tracking-at-a-Glance (TAAG) system was used for program implementation activities related to the Disaster Housing Assistance Program (DHAP) case management services. DHAP is a Federal Emergency Management Agency (FEMA) pilot grant program to provide temporary rental subsidies and case management for non-HUD assisted individuals and families displaced by Hurricanes Katrina or Rita. HUD was the servicing agency that administers the DHAP program for FEMA. The program ended in 2011 and none of the records are active because the information would not be eligible for existing HUD or FEMA programs and as such would no longer be needed. Records are no longer maintained by HUD and have run the record retention period. The records were wiped from the system.

SYSTEM NAME AND NUMBER:

Tracking-at-a-Glance (TAAG).

HISTORY:

The previously published notice in the Federal Register [Docket Number 5130-N-22], on April 23, 2008, 73 FR 21973.

Ladonne White,
Chief Privacy Officer, Office of Administration.

[FR Doc. 2024-00184 Filed 1-8-24; 8:45 am]

BILLING CODE 4210-67-P